DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket Number FRA-2001-10655

Applicant: Long Island Rail Road Company, Mr. Dennis C. George, PE, Chief Engineer, Jamaica Station, Jamaica, New York 11435

The Long Island Rail Road Company seeks relief from the requirements of the Rules, Standards and Instructions, Title 49 CFR, part 236, section 236.408, to the extent that route locking need not be provided for the proposed installation of three, train crew controlled, power-operated switches in the existing traffic control system, toward the replacement of the existing S119, S118A, and S118B electrically locked, hand-operated switches, near milepost 12.0 between Hall and Valley Interlockings on the Montauk Branch, at St. Albans, New York.

Applicant's justification for relief: To reduce injuries and switching times in pursuit of improvements in safety and operations.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, SW., Washington, DC 20590-0001. All documents in the public docket are also available for inspection and copying on the internet at the docket facility's web site at http://dms.dot.gov.

FRA expects to be able to determine these matters without an oral hearing. However, if a specific request for an oral hearing is accompanied by a showing that the party is unable to adequately present his or her position by written statements, an application may be set for public hearing.

Issued in Washington, DC on October 23, 2001.
Grady C. Cothen, Jr.,
Deputy Associate Administrator for Safety Standards and Program Development.

[FR Doc. 01-27139 Filed 10-26-01; 8:45 am]

BILLING CODE 4910-06-P